DEPARTMENT OF TRANSPORTATION

Federal Motor Carrier Safety Administration

[Docket No. FMCSA-2010-0391]

Agency Information Collection Activities; Extension of a Currently-Approved Information Collection Request: Transportation of Hazardous Materials, Highway Routing

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval. The FMCSA requests approval to extend an existing ICR titled, “Transportation of Hazardous Materials, Highway Routing.” The information reported by States and Indian tribes is necessary to identify designated/restricted routes and restrictions or limitations affecting how motor carriers may transport certain hazardous materials on their highways, including dates that such routes were established and information on subsequent changes or new hazardous materials routing designations. On September 13, 2010, FMCSA published a Federal Register notice allowing for a 60-day comment period on the ICR. No comment was received.

DATES: Please send your comments by January 13, 2011. OMB must receive your comments by this date in order to act quickly on the ICR.

ADDRESSES: All comments should reference Federal Docket Management System (FDMS) Docket Number FMCSA-2010-0391. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street, NW., Washington, DC 20503.

FOR FURTHER INFORMATION CONTACT: Mr. Paul Bomgardner, Hazardous Materials Division, Department of Transportation, Federal Motor Carrier Safety Administration, West Building 6th Floor, 1200 New Jersey Avenue, SE, Washington, DC 20590. Telephone: 202-493-0027; e-mail: paul.bomgardner@dot.gov.

SUPPLEMENTARY INFORMATION: Title: Transportation of Hazardous Materials, Highway Routing.

OMB Control Number: 2126-0014.

Type of Request: Extension of a currently-approved information collection.

Respondents: The reporting burden is shared by 50 States, the District of Columbia, Puerto Rico, American Samoa, Guam, the Commonwealth of the Northern Marianas Islands and the U.S. Virgin Islands.

Estimated Number of Respondents: 51.

Estimated Time per Response: 15 minutes.

Expiration Date: March 31, 2011.

Frequency of Response: Annually.

Estimated Total Annual Burden: 13 hours [51 annual respondents × 1 response × 15 minutes per response/60 minutes per response = 12.75 hours, rounded to 13 hours].

Background: The data for the Transportation of Hazardous Materials; Highway Routing designations ICR is collected under authority of 49 U.S.C. 5112 and 5125. Specifically, 49 U.S.C. 5112(c) requires that the Secretary, in coordination with the States, “shall update and publish periodically a list of current effective hazardous materials highway route designations.”

Under 49 CFR 397.73, the FMCSA Administrator has the authority to request that each State and Indian tribe, through its routing agency, provide information identifying hazardous materials designations within their jurisdictions. That information is collected and consolidated by FMCSA and published annually, in whole or as updates, in the Federal Register.

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information.

Issued on: December 5, 2010.
Kelly Leone,
Associate Administrator for Research and Information Technology.

[FR Doc. 2010-31264 Filed 12-13-10; 8:45 am]

BILLING CODE 4910-EX-P